DEPARTMENT OF AGRICULTURE

Farm Service Agency

Information Collection; County Committee Elections

AGENCY: Farm Service Agency, USDA.

ACTION: Notice; request for comments.

SUMMARY: In accordance with the Paperwork Reduction Act of 1995, the Farm Service Agency (FSA) is requesting comments from all interested individuals and entities on an extension of a currently approved information collection associated with the FSA County Committee Elections. The collection of information from FSA Farmers and Ranchers is used to receive nominations from eligible voters for the County Committee.

DATES: We will consider comments we receive by July 14, 2014.

Additional Information: We invite you to submit comments on this notice. In your comment, include volume, date and page number of this issue of the Federal Register. You may submit comments by any of the following methods:

• Federal eRulemaking Portal: Go to: www.regulations.gov. Follow the online instructions for submitting comments.

• Mail: Deborah Johnson, Field Operations Specialist for the Deputy Administrator for Field Operations, Farm Service Agency, USDA, STOP 0542, 1400 Independence Avenue SW., Washington, DC 20250.

You may also send comments to the Desk Officer for Agriculture, Office of Information and Regulatory Affairs, Office of Management and Budget, Washington, DC 20503. Copies of the information collection may be requested by contacting Deborah Johnson at the above address.

FURTHER INFORMATION CONTACT: Deborah Johnson, (202) 720-0067.

SUPPLEMENTARY INFORMATION:

Title: County Committee Election.

OMB Control Number: 0560-0229.

Expiration Date of Approval: November 30, 2014.

Type of Request: Extension.

Abstract: This information collection is necessary to effectively allow farmers and ranchers to nominate potential candidates for the county committee election in accordance with the requirements as authorized by the Soil Conservation and Domestic Allotment Act, as amended. Specifically, FSA uses the information annually or if needed throughout the year for special elections to create ballots for county committee elections. There are no changes to the burden hours since the last OMB approval.

The formulas used to calculate the total burden hours is estimated average time per response (includes travel times). The estimated annual burden per respondent is different from the estimated average time per response because one or more forms are filed more than once a year.

Estimate of Respondent Burden: Public reporting burden for this collection of information is estimated to average 10 minutes per response. The average travel time, which is included in the total burden, is estimated to be 1 hour per respondent.

Respondents: Any individual with farming interest in the Local Administrative Area (LAA) (eligible voters).

Estimated Number of Respondents: 10,000.

Estimated Number of Responses per Respondent: 1.

Estimated Total Annual Reponses: 10,000.

Estimated Average Time per Response: 0.067.

Estimated Total Annual Burden on Respondents: 6,700.

We are requesting on all aspects of this information collection to help us:

(1) Evaluate whether the collection of information is necessary for the proper performance of the functions of the agency, including whether information will have practical utility;

(2) Evaluate the accuracy of FSA's estimate of burden including the validity of the methodology and assumptions used;

(3) Enhance the quality, utility and clarity of the information collected; or

(4) Minimize the burden of the information collection on those who are to respond through the use of appropriate automated, electronic, mechanical, or other technological collection techniques or other forms of information technology.

All responses received in response to this notice, including names and addresses when provided, will be summarized and included in the request for Office of Management and Budget approval of the information collection.

Signed on May 8, 2014.
Juan M. Garcia,
Administrator, Farm Service Agency.

[FR Doc. 2014-11042 Filed 5-13-14; 8:45 am]

BILLING CODE 3410-05-P